FEDERAL COMMUNICATIONS COMMISSION

47 CFR Part 73

[DA 03-194; MB Docket Nos. 03-22, 03-23; RM- RM-10597, RM-10633]

Radio Broadcasting Services; Conway and Vilonia, AR; Racine, OH and Ravenswood, WV

AGENCY: Federal Communications Commission.

ACTION: Proposed rule.

SUMMARY: The Commission seeks comment on proposals in two separate docketed proceedings in a multiple docket Notice of Proposed Rule Making. One, filed by Creative Media, Inc. (“Creative”) proposes to substitute Channel 224C3 for Channel 224A at Conway, Arkansas, and reallot Channel 224C3 from Conway to Vilonia, Arkansas as the community's first local aural transmission service, and modify the license for Station KASR(FM) to reflect the changes. Channel 22C3 can be reallotted from Conway to Vilonia, Arkansas at Creative's requested site12.7 kilometers (7.9 miles) east of the community at coordinates 35-05-02 NL and 92-04-59 WL. The other, filed by Legend Communications of West Virginia, LLC (“Legend”) to reallot Channel 226A from Ravenswood, West Virginia, to Racine, Ohio, as the community's first local aural transmission service, and modify the license for Station WPTM(FM) to reflect the change of community. Channel 226A can be reallotted from Ravenswood, West Virginia, to Racine, Ohio at Legend's requested transmitter site 14.4 kilometers (9 miles) southeast of the community at coordinates 38-53-36 NL and 81-46-52 WL.

DATES: Comments must be filed on or before March 24, 2003, and reply comments must be filed on or before April 8, 2003.

ADDRESSES: Federal Communications Commission, 445 Twelfth Street, SW., Washington, DC 20554. In addition to filing comments with the FCC, interested parties should serve the petitioner, his counsel, or consultant, as follows: Legend Communications of West Virginia, LLC, c/o Christina T. Brumley, Esq., Jackson & Kelly PLLC, P.O. Box 553, Charleston, West Virginia 25322 (MB Docket No. 03-22). Creative Media, Inc., c/o Eugene T. Smith, Esq., P.O. Box 15541, Washington, DC 20003 (MB Docket No. 03-23).

FOR FURTHER INFORMATION CONTACT: Victoria M. McCauley, Mass Media Bureau, (202) 418-2180.

SUPPLEMENTARY INFORMATION: This is a synopsis of the Commission's Notice of Proposed Rule Making, MB Docket Nos. 03-22 and 03-23, adopted January 29, 2003, and released January 31, 2003. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by removing Channel 224A at Conway and adding Vilonia, Channel 224C3.

3. Section 73.202(b), the Table of FM Allotments under Ohio, is amended by adding Racine, Channel 226A.

4. Section 73.202(b), the Table of FM Allotments under West Virginia, is amended by removing Ravenswood, Channel 226A.

Federal Communications Commission.
John A. Karousos,
Assistant Chief, Audio Division, Media Bureau.

[FR Doc. 03-3951 Filed 2-18-03; 8:45 am]

BILLING CODE 6712-01-P